ENVIRONMENTAL PROTECTION AGENCY

[FRL-6946-7]

Transfer of Confidential Business Information to Contractors

AGENCY: Environmental Protection Agency.

ACTION: Notice of transfer of data and request for comments.

SUMMARY: The Environmental Protection Agency (EPA) will transfer Confidential Business Information (CBI) to its contractor, DPRA, Inc. These data pertain to the quantities of hazardous waste generated and managed, and the disposition of those wastes. These data have been or will be submitted to EPA pursuant to the Biennial Reporting requirements of the Resource Conservation and Recovery Act of 1976 (RCRA), as amended. Some of the information may have a claim of business confidentiality. DPRA, Inc. is assisting EPA in assessing the quality of the Biennial Report data, establishing a national data bases on hazardous waste generation and management, and in developing “The National Biennial RCRA Hazardous Waste Report (Based on 1999 Data).”

DATES: Transfer of confidential data submitted to EPA will occur no sooner than March 5, 2001.

ADDRESSES: Comments should be sent to Regina Magbie, Document Control Officer, Office of Solid Waste (5305W), U.S. Environmental Protection Agency, Ariel Rios Building, 1200 Pennsylvania Avenue, NW., Washington, DC 20460. Comments should be identified as “Transfer of Confidential Data.”

FOR FURTHER INFORMATION CONTACT: Regina Magbie, Office of Solid Waste (5305W), U.S. Environmental Protection Agency, Ariel Rios Building, 1200 Pennsylvania Avenue, NW., Washington, DC 20460, 703-308-7909.

SUPPLEMENTARY INFORMATION:

1. Transfer of Confidential Business Information

The U.S. Environmental Protection Agency is using Biennial Report data to establish a national data base on hazardous waste generation and management. These data will be used to characterize the demographics of and trends in hazardous waste generation and management. Under EPA Contract No. GS-35F-0063K, DPRA, Inc. will assist the Information Management Branch, Communications, Information, and Resources Management Division, Office of Solid Waste, in assessing the quality of the 1999 Biennial Report data, establishing the National Biennial Report data base, and preparing the 1999 National Report based on those analyses. Some of the information being transferred may be claimed as Confidential Business Information (CBI). In accordance with 40 CFR 2.305(h), EPA has determined that DPRA, Inc. requires access to CBI submitted to EPA under the authority of RCRA to perform work satisfactory under the above noted contract. EPA is issuing this notice to inform all submitters of CBI on their 1989, 1991, 1993, 1995, 1997 and 1999 Hazardous Waste Report Forms (EPA Form 8700-13 A/B), or State developed biennial report forms, that EPA may transfer to this firm, on a need-to-know basis, CBI collected under the authority of RCRA. Upon completing their review of materials submitted, DPRA, Inc. will return all material to EPA.

DPRA, Inc. has been authorized to have access to RCRA CBI under the EPA “Contractor Requirements for the Control and Security of RCRA Confidential Business Information Security Manual.” EPA will approve the security plan of the contractor to ensure that their facility complies with security procedures outlined in the security manual prior to RCRA CBI being transmitted to the contractors. Contractor personnel will be required to sign non-disclosure agreements and will be briefed on appropriate security procedures before they are permitted access to confidential information.

Dated: February 6, 2001.
Elizabeth A. Cotsworth,
Director, Office of Solid Waste.

[FR Doc. 01-4401 Filed 2-21-01; 8:45 am]

BILLING CODE 6560-50-P